DEPARTMENT OF VETERANS AFFAIRS

[OMB Control No. 2900-NEW (VA Form 20-0968]

Agency Information Collection (Claim for Reimbursement of Travel Expenses) Activity Under OMB Review

AGENCY: Veterans Benefits Administration, VA.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before February 13, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900—NEW (Claim for Reimbursement of Travel Expenses)” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW (Claim for Reimbursement of Travel Expenses)” in any correspondence.

SUPPLEMENTARY INFORMATION: Title: Claim for Reimbursement of Travel Expenses, VA Form 20-0968.

OMB Control Number: 2900—NEW.

Type of Review: New collection.

Abstract: The purpose of the information collection is for claimants to apply for the mileage reimbursement benefit in an efficient, convenient and accurate manner. VBA must determine the identity of the claimant; the dates and length of the trip being claimed, based on the claimant's residence and the place of evaluation and counseling, or other place in connection with vocational rehabilitation; and whether expenses other than mileage are being claimed.

An agency may not conduct or sponsor, and a person is not required to respond to a collection of information unless it displays a currently valid OMB control number. The Federal Register Notice with a 60-day comment period soliciting comments on this collection of information was published at 79 FR 60234, October 6, 2014.

Affected Public: Federal Government.

Estimated Annual Burden: 21,667 hours.

Estimated Average Burden per Respondent: 5 minutes.

Frequency of Response: One time.

Estimated Number of Respondents: 130,000.

Dated: January 9, 2015.
By direction of the Secretary.
Crystal Rennie,
Department Clearance Officer, Department of Veterans Affairs.

[FR Doc. 2015-00430 Filed 1-13-15; 8:45 am]

BILLING CODE 8320-01-P